DEPARTMENT OF DEFENSE

Department of the Navy

Information on Surplus Land at a Military Installation Designated for Disposal: Newport Naval Complex, Newport, RI—Former Naval Hospital, Newport, Former Navy Lodge, Middletown, Tank Farms 1 & 2, Portsmouth, and Midway/Green Lane Parcel, Stringham Road and Portion of Defense Highway

AGENCY: Department of the Navy, DoD.

ACTION: Notice.

SUMMARY: This notice provides information on the surplus property at Newport Naval Complex, Newport, RI.

FOR FURTHER INFORMATION CONTACT: Ms. Kimberly Kesler, Director, Base Realignment and Closure Program Management Office, 1455 Frazee Road, San Diego, CA 92108-4310, telephone 619-532-0993 or Mr. Gregory Preston, Deputy Director, Base Realignment and Closure Program Management Office, Northeast, 4911 South Broad Street, Philadelphia, PA 19112-1303, telephone 215-897-4910.

SUPPLEMENTARY INFORMATION: In 2005, portions of Newport Naval Complex, Newport, RI were designated for realignment under the authority of the Defense Base Closure and Realignment Act of 1990, Public Law 101-510, as amended (the Act). Pursuant to this designation, on January 5, 2009, land and facilities at this installation were declared excess to the Department of Navy (Navy) and available to other Department of Defense components and other Federal agencies. The Navy has evaluated all timely Federal requests and has made a decision on property required by the Federal Government.

Notice of Surplus Property. Pursuant to paragraph (7)(B) of Section 2905(b) of the Act, as amended by the Base Closure Community Redevelopment and Homeless Assistance Act of 1994, the following information regarding the redevelopment authority for surplus property at Newport Naval Complex, Newport, RI is published in the Federal Register.

Surplus Property Description. The following is a list of the land and facilities at Newport Naval Complex: Former Naval Hospital, Newport, Former Navy Lodge, Middletown, Tank Farms 1 & 2, Portsmouth, and Midway/Green Lane Parcel, Stringham Road and Portion of Defense Highway, that are surplus to the needs of the Federal Government.

Former Naval Hospital Area, Newport, RI

a. Land. Newport Naval Complex—Former Naval Hospital Area is located at the Naval Health Care New England, at the south end of the Newport Naval Complex at 43 Smith Road, located within the County of Newport and the City of Newport, RI. The property consists of approximately 10 acres of improved and unimproved fee-simple land, consisting of 7 acres of land and 3 acres of submerged land. The property is located in a coastal zone. In general, the area will be available in September 2012.

b. Buildings. The following is a summary of the buildings and other improvements located on the above-described former Naval Hospital, Newport land that will also be available in September 2012. The property is in a National Register Eligible District. Four of the buildings have been determined to be contributing elements. Property numbers are available on request.

(1) Former Main Hospital—Building No. 1 (1 structure). Comments: Approximately 147,566 square feet. Building No. 1 is a three-story concrete and brick H-plan structure, which was constructed in 1913 and used as an inpatient hospital until 1997; the building is currently vacant.

(2) Administrative facilities (2 structures). Comments: Approximately 37,671 square feet.

(3) Storage/Warehouse, Utility Maintenance Facilities (4 structures). Comments: Approximately 5,839 square feet.

(4) Miscellaneous Facilities (2 structures). Comments: Chapel, Approximately 3000 square feet. Garage, 420 square feet.

(5) Pier. Comments: Approximately 490 square yards.

(6) Paved areas (roads). Comments: Consists of roads and other similar pavements, and other surface areas (i.e. parking areas, sidewalks, etc).

(7) Utility facilities (approximately 2 structures). Comments: Measuring systems vary; electric and water.

Former Navy Lodge, Middletown, RI

a. Land. Newport Naval Complex—Former Navy Lodge is located on West Main Road, State Route 114, in a commercial district within the County of Newport and the Town of Middletown and consists of approximately 3 acres of improved and unimproved fee simple land. In general, the area will be available in October 2011.

b. Improvements. The former lodge has been demolished. A small utility (telephone) hut will remain on the property under an easement. The following improvements, located on the above-described Former Navy Lodge land, will also be available in October 2011:

(1) Utility facilities (approximately 2 structures). Comments: Measuring systems vary; water and electric.

Tank Farms 1 and 2, Portsmouth, RI

Tank Farms 1 and 2 consist of improved and unimproved fee simple land located within Newport County and the Town of Portsmouth. In general, the areas will be available in December 2014. Tank Farms 3 and 4 have been withdrawn from consideration as excess, and Navy is retaining these properties for possible alternative energy development.

The Tank Farms were used to store Navy Special, a heavy grade fuel. Tank Farms 1 and 2 were formerly used by the Defense Logistics Agency/Defense Energy Support Center (DESC) for operation of a fuel distribution terminal known as the Defense Fuel Support Point Melville. The available property consists of the following:

Tank Farm 1:

a. Land. Approximately 49 acres of improved and unimproved fee simple land.

b. Improvements. The following improvements, located on the above-described Tank Farm 1 land, will also be available in December 2014:

(1) Miscellaneous Facilities (14 structures). Comments: 2 Partially buried concrete underground fuel storage tanks (2.56 million-gallon capacity), 6 steel underground fuel storage tanks (1.176 million-gallon capacity), 2 above-ground steel fuel storage tanks (2.35 million-gallon capacity), 1 underground water tank (1 million-gallon capacity), and 3 support facilities (22,738 square feet).

(2) Paved areas (roads). Comments: Consists of roads and other similar pavements.

(3) Utility facilities (approximately 2 structures). Comments: Measuring systems vary; water and electric.

Tank Farm 2:

a. Land. Approximately 96 acres of improved and unimproved fee simple land.

b. Improvements. The following improvements, located on the above-described Tank Farm 2 land, will also be available in December 2014:

(1) Miscellaneous Facilities (14 structures). Comments: 11 Concrete underground fuel storage tanks (2.5 million-gallon capacity), and 3 support facilities (6,308 square feet).

(2) Paved areas (roads). Comments: Consists of roads and other similar pavements.

(3) Utility facilities (approximately 2 structures). Comments: Measuring systems vary; water and electric.

Midway/Green Lane Parcel, Stringham Road and Portion of Defense Highway

a. Land. The available property consists of the following parcels. In general, the areas will be available in September 2012.

Midway/Green Lane Parcel consists of approximately 15 acres of improved and unimproved fee simple land located adjacent to the railroad right-of-way, along Narragansett Bay within Newport County and the Town of Middletown.

Stringham Road consists of approximately 1-mile long, 2-lane asphalt roadway located within Newport County and the Town of Portsmouth.

Portion of Defense Highway consists of approximately 3.6 miles long, 2-lane asphalt roadway and bike lanes located within Newport County and the Town of Portsmouth.

Disposal Procedures. At such time as a Local Redevelopment Authority (LRA) is recognized in accordance with Section 2905(b)(7)(B) of the Act, the Department of Defense will publish in the Federal Register and in a newspaper of general circulation in the communities in the vicinity of the installation information on the LRA. Pursuant to section 2905(b)(7)(F) of the Act, the LRA will conduct a community outreach effort with respect to the surplus property and will publish, in a newspaper of general circulation in the communities within the vicinity of Newport Naval Complex, Newport, RI the time period during which the LRA will receive notices of interest from State and local governments, representatives of the homeless, and other interested parties. That publication shall include the name, address and telephone number of the point of contact for the LRA who can provide information on the prescribed form and contents of the notices of interest.

Dated: February 1, 2010.
A.M. Vallandingham,
Lieutenant Commander, Judge Advocate General's Corps, U.S. Navy, Federal Register Liaison Officer.

[FR Doc. 2010-2745 Filed 2-8-10; 8:45 am]

BILLING CODE 3810-FF-P